DEPARTMENT OF COMMERCE

National Oceanic and Atmospheric Administration

[RTID 0648-XD959]

Marine Mammals; File No. 28082

AGENCY: National Marine Fisheries Service (NMFS), National Oceanic and Atmospheric Administration (NOAA), Commerce.

ACTION: Notice; receipt of application.

SUMMARY: Notice is hereby given that Pioneer Studios (Responsible Party: Ben Hamilton), 2511 Ashton Village Drive, San Antonio, TX 78248, has applied in due form for a permit to conduct commercial or educational photography on the eastern U.S stock of Steller sea lions (Eumetopias jubatus) and harbor seals (Phoca vitulina).

DATES: Written comments must be received on or before June 17, 2024.

ADDRESSES: These documents are available upon written request via email to NMFS.Pr1Comments@noaa.gov.

Written comments on this application should be submitted via email to NMFS.Pr1Comments@noaa.gov. Please include “File No. 28082” in the subject line of the email comment.

Those individuals requesting a public hearing should submit a written request via email to NMFS.Pr1Comments@noaa.gov. The request should set forth the specific reasons why a hearing on this application would be appropriate.

FOR FURTHER INFORMATION CONTACT: Carrie Hubard or Sara Young, (301) 427-8401.

SUPPLEMENTARY INFORMATION: The subject permit is requested under the authority of the Marine Mammal Protection Act of 1972, as amended (16 U.S.C. 1361 et seq.), and the regulations governing the taking and importing of marine mammals (50 CFR part 216).

The applicant proposes to film up to 400 Steller sea lions and 60 harbor seals annually in Sitka Sound, Alaska. Filming will occur from vessels, unmanned aircraft systems, and divers. Footage will be used for a documentary about the diversity of life in the marine and terrestrial environments near Sitka Sound. Specifically, the footage will focus on the annual herring spawn. The film would be screened locally to residents and visitors to the area. The permit would be valid through April 2026.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 13, 2024.
Julia M. Harrison,
Chief, Permits and Conservation Division, Office of Protected Resources, National Marine Fisheries Service.

[FR Doc. 2024-10769 Filed 5-15-24; 8:45 am]

BILLING CODE 3510-22-P